INTERNATIONAL TRADE COMMISSION

[Investigation No. 337-TA-904]

Certain Acousto-Magnetic Electronic Article Surveillance Systems, Components Thereof, and Products Containing Same; Commission's Determination To Review an Initial Determination Terminating the Investigation Based on a Settlement Agreement and Issuance of a Consent Order; Issuance of a Consent Order; Termination of the Investigation

AGENCY: U.S. International Trade Commission.

ACTION: Notice.

SUMMARY: Notice is hereby given that the U.S. International Trade Commission has determined to review the presiding administrative law judge's (“ALJ”) initial determination (“ID”) (Order No. 13) terminating the investigation based on settlement and issuance of a consent order. On review, the Commission modifies the ID by revising the proposed consent order to be in compliance with the Commission's rules, issues the revised consent order, and terminates the investigation.

FOR FURTHER INFORMATION CONTACT: Amanda Pitcher Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 15, 2014, based on a complaint filed on behalf of Tyco Fire & Security GmbH of Switzerland; Sensormatic Electronics, LLC of Boca Raton, Florida; and Tyco Integrated Security, LLC of Boca Raton, Florida (collectively “Complainants”). 79 FR 2692-93 (Jan. 15, 2014). The complaint alleged violations of Section 337 of the Tariff Act of 1930, as amended, 19 U.S.C. 1337, in the sale for importation, importation, or sale within the United States after importation of certain acousto-magnetic electronic article surveillance systems, components thereof, and products containing same by reason of infringement of U.S. Patent No. 5,729,200 and U.S. Patent No. 6,181,245. The notice of investigation named Ningbo Signatronic Technologies, Ltd., of Ningbo, China; All-Tag Security Americas, Inc., of Boca Raton, Florida; All-Tag Security Hong Kong Co., Ltd. of Tsuen Wan N.T., Hong Kong; All-Tag Europe SPRL of Brussels, Belgium; All-Tag Security UK, Ltd. of Cheshire, United Kingdom; Best Security Industries of Delray Beach, Florida; and Signatronic Corporation of Boca Raton, Florida as respondents (collectively “Respondents”). The Office of Unfair Import Investigations (“OUII”) was also named as a party to the investigation.

On August 11, 2014, Complainants and Respondents filed a joint motion to terminate the investigation based upon a settlement agreement, a consent order stipulation and a proposed consent order. The moving parties represented that there are no other agreements, written or oral, express or implied between them concerning the subject matter of this investigation other than the consent order stipulation, settlement agreement and consent order. The moving parties provided public versions of the settlement agreement. OUII filed a response stating that it did not oppose the motion.

On August 25, 2014, the ALJ granted the motion for termination of the investigation. The ALJ found that the consent order stipulation complied with the Commission's rules but made no such finding as to the proposed consent order. The ALJ also found that there was no evidence that terminating the investigation based on settlement and consent order would be contrary to the public interest. No petitions for review were filed.

The Commission has determined to review the subject ID. Commission Rule 210.21(c)(4) states in part that “[t]he Commission will not issue consent orders with terms beyond those provided for in this section. . . .” The Commission finds that the parties' proposed consent order includes not only the provisions specified in Rule 210.21(c)(4), but also includes additional terms from the consent order stipulation. On review, the Commission revises the proposed consent order to bring it into compliance with the Commission's rules, issues the revised consent order, and terminates the investigation. The settlement agreement and consent order resolve all claims asserted in the investigation.

The authority for the Commission's determination is contained in section 337 of the Tariff Act of 1930, as amended (19 U.S.C. 1337), and in Part 210 of the Commission's Rules of Practice and Procedure (19 CFR Part 210).

By order of the Commission.
Issued: September 24, 2014.
Lisa R. Barton,
Secretary to the Commission.

[FR Doc. 2014-23184 Filed 9-29-14; 8:45 am]

BILLING CODE 7020-02-P